DEPARTMENT OF DEFENSE

Office of the Secretary

Defense Science Board

AGENCY: Department of Defense.

ACTION: Notice of advisory committee meeting.

SUMMARY: The Defense Science Board (DSB) Task Force on B-52 Re-Engining will meet in closed session on June 25, 2002, at the Institute for Defense Analysis, 4850 Mark Center Drive, Alexandria, VA. This Task Force will review and advise on key aspects of the policy and technology issues associated with re-engining the USAF B-52 fleet.

The mission of the Defense Science Board is to advise the Secretary of Defense and the Under Secretary of Defense for Acquisition, Technology & Logistics on scientific and technical matters as they affect the perceived needs of the Department of Defense. At this meeting, the Defense Science Board Task Force will review the Department's policy and technology associated with re-engining the B-52 fleet. Re-engining has been undertaken for several weapons systems in the recent past, to include the KC-135 tanker fleet, and currently, the RC-135 fleet. Given the projected retention of the B-52 for several decades into the future, the Task Force will examine and assess the operational and supportability of B-52 re-engining from the perspectives of: Effective operational weapons system employment, to include tanker demands; efficient ground and flight operations, to include fuel consumption factors; engine reliability and systems performance; technical and supportability risks of remaining with the TF-33 engine for future decades; streamlined support concepts from a best value viewpoint, to include total contractor support options; implementation issues, to include conventional as well as innovative acquisition and financing options; contracting and legal considerations—to include termination issues; and affordability of re-engining as compared to life extension concepts.

In accordance with section 10(d) of the Federal Advisory Committee Act, Pub. L. No. 92-463, as amended (5 U.S.C. App. II), it has been determined that this Defense Science Board Task Force meeting concerns matters listed in 5 U.S.C. 552b(c)(1) and that, accordingly, the meeting will be closed to the public.

Dated: June 6, 2002.
Patricia L. Toppings,
Alternate OSD Federal Register Liaison Officer, Department of Defense.

[FR Doc. 02-14706 Filed 6-11-02; 8:45 am]

BILLING CODE 5001-08-M